DEPARTMENT OF THE INTERIOR

Bureau of Indian Affairs

Notice of Intent To Prepare an Environmental Impact Statement for the Proposed Manzanita Band of Kumeyaay Indians Fee-to-Trust Transfer and Casino Project, Calexico, Imperial County, CA

AGENCY: Bureau of Indian Affairs, Interior.

ACTION: Notice.

SUMMARY: This notice advises the public that the Bureau of Indian Affairs (BIA), as lead agency, with the National Indian Gaming Commission, the City of Calexico and the Manzanita Band of Kumeyaay Indians (Tribe) as cooperating agencies, intends to gather information necessary for preparing an Environmental Impact Statement (EIS) for a proposed 60.8-acre fee-to-trust transfer and casino project in Calexico, Imperial County, California. This notice also announces a public scoping meeting to identify potential issues, concerns and alternatives to be considered in the EIS.

DATES: Written comments on the scope and implementation of this proposal must arrive by April 7, 2008. The public scoping meeting will be held March 27, 2008, from 6 p.m. to 9 p.m., or until all those who register to make statements have been heard.

ADDRESSES: You may mail or hand carry written comments to Amy Dutschke, Acting Regional Director, Pacific Regional Office, Bureau of Indian Affairs, 2800 Cottage Way, Sacramento, California 95825. Please include your name, return caption, address and “DEIS Scoping Comments, Manzanita Band of Kumeyaay Indians, 60.8-acre fee-to-trust Casino Project, Calexico, California,” on the first page of your written comments.

The public scoping meeting will be held at the County of Imperial Board of Supervisors Chamber Room, 940 West Main Street, Suite 211, El Centro, California 92243.

FOR FURTHER INFORMATION CONTACT: John Rydzik, (916) 978-6042.

SUPPLEMENTARY INFORMATION: The Tribe proposes that 60.8 acres of land be taken into trust and plans to develop a casino facility on the land. The property is located at the northernmost gateway to the City of Calexico, a California/Mexico border city of growing importance in international trade. The project site is situated at the southwest quadrant of State Highway 111 and Jasper Road and is bounded on the south and west by the Central Main and Dogwood Canals. The 60.8-acre parcel is undeveloped, former agricultural land and is located within the site of the City of Calexico's proposed 111 Calexico Place commercial highway development project.

The Tribe proposes to develop a 220,000-square-foot casino facility on the 60.8-acre parcel. The casino facility would include approximately 90,000 square feet of gaming space, 120,000 square feet of food/beverage and retail components and 10,000 square feet of entertainment venue. In addition, there would be a 50,000-square-foot banquet/meeting hall and a 260-room hotel. The casino would have 2,000 slot machines and 45 gaming tables. There will be three guest restaurants and one employee dining room. A swimming pool and a parking structure containing 3,000 spaces for guests and 400 valet parking spaces would also be developed within the project area.

The Tribe's application seeks to take a 60.8-acre off-reservation parcel into trust under Section 5 of the Indian Reorganization Act and implementing regulations in 25 CFR part 151, and requests a Secretarial determination under Section 20(b) (1) (A) of the Indian Gaming Regulatory Act that a proposed gaming establishment on the parcel would be in the best interest of the Tribe and its members, and not detrimental to the surrounding community. The purpose of the proposed action is to help improve the tribal economy of the Manzanita Band and assist tribal members to attain economic self-sufficiency. We are aware that some members of the public have expressed concern about off-reservation gaming. In this case, the parcel is located approximately 50 miles from the Tribe's reservation. We are soliciting and will consider accommodating the views of elected officials (State, county, city, etc.) and community members in the local area as part of our decision making process. We also plan a more detailed consideration of the broad implications associated with new gaming operations within established communities where gaming is not currently conducted.

Areas of environmental concern to be addressed in the EIS include land resources, water resources, biological resources, cultural resources, traffic and transportation, noise, air quality, public health/environmental hazards, public services and utilities, hazardous waste and materials, socio-economics, environmental justice and visual resources/aesthetics. In addition to the proposed action, a reasonable range of alternatives, including the no-action alternative will be analyzed in the EIS. The range of issues and alternatives may be expanded based on comments received during the scoping process.

Public Comment Availability

Before including your address, phone number, e-mail address, or other personal identifying information in your comment, you should be aware that your entire comment—including your personal identifying information—may be made publicly available at any time. While you can ask us in your comment to withhold your personal identifying information from public review, we cannot guarantee that we will be able to do so.

Authority

This notice is published in accordance with sections 1501.7, 1506.6 and 1508.22 of the Council of Environmental Quality Regulations (40 CFR, Parts 1500 through 1508) implementing the procedural requirements of the National Environmental Policy Act of 1969, as amended (42 U.S.C. 4371, et seq.), and the Department of the Interior Manual (516 DM 1-6), and is in the exercise of authority delegated to the Assistant Secretary—Indian Affairs by 209 DM 8.l.

Dated: February 15, 2008.
Carl J. Artman,
Assistant Secretary, Indian Affairs.

[FR Doc. E8-4354 Filed 3-5-08; 8:45 am]

BILLING CODE 4310-W7-P